DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: This notice announces a meeting of the ARAC.

DATES: The FAA will hold the meeting on Thursday, March 20, 2025, from 1 p.m. to 4 p.m. eastern time.

The FAA must receive requests to attend the meeting by Thursday, March 13, 2025.

The FAA must receive requests for accommodations to a disability by Thursday, March 13, 2025.

The FAA must receive any written materials for the meeting by Thursday, March 13, 2025.

ADDRESSES: The meeting will be held at the Federal Aviation Administration, 800 Independence Avenue SW, Washington, DC 20591, and virtually on Zoom. However, if the FAA is unable to hold the meeting in person due to circumstances outside of its control, the FAA will hold a virtual meeting, notifying registrants of the meeting details and posting any updates on the FAA Committee website. Members of the public who wish to observe the meeting must RSVP by emailing 9-awa-arac@faa.gov. General committee information, including copies of the meeting minutes, will be available on the FAA Committee website (https://www.faa.gov/regulations_policies/rulemaking/committees/documents/) at least one week in advance of the meeting.

FOR FURTHER INFORMATION CONTACT: Aliah Duckett, Federal Aviation Administration, Office of Rulemaking, 800 Independence Avenue SW, Washington, DC 20591, 9-awa-arac@faa.gov or (202) 267-6952. Any committee-related request should be sent to the person listed in this section.

SUPPLEMENTARY INFORMATION:

I. Background

ARAC was established on January 22, 1991, under the Federal Advisory Committee Act (FACA) and pursuant to title 5 of the United States Code (5 U.S.C. Ch.10.), as a discretionary committee. The purpose of ARAC is to provide information, advice, and recommendations to the Secretary of Transportation, through the FAA Administrator, concerning rulemaking activities, such as aircraft operations, airman and air agency certification, airworthiness standards and certification, airports, maintenance, noise, and training.

II. Agenda

At the meeting, the agenda will cover the following topics:

Welcome and Introductions

Federal Advisory Committee Act (FACA) Statement

Ratification of Minutes

Status Updates and Recommendation Reports

• Airman Certification System Working Group

• Transport Airplane and Engine (TAE) Subcommittee

○ Flight Test Harmonization Working Group

○ Ice Crystals Icing Working Group

○ Engine and Powerplant Interface Working Group

Any Other Business

FAA Update on Regulatory Activities

Adjourn

Detailed agenda information will be posted on the FAA Committee website address listed in the ADDRESSES section at least one week in advance of the meeting.

III. Public Participation

The meeting will be open to the public for virtual or in-person attendance on a first-come, first-served basis, as there is limited space. Please confirm your attendance with the person listed in the FOR FURTHER INFORMATION CONTACT section and provide the following information: full legal name, country of citizenship, and name of your industry association or applicable affiliation. Please indicate if you plan to observe the meeting in person or virtually. The FAA will email registrants the meeting access information in a timely manner prior to the start of the meeting.

The DOT is committed to providing equal access to this meeting for all participants. If you need alternative formats or services because of a disability, such as sign language, interpretation, or other ancillary aids, please contact the person listed in the FOR FURTHER INFORMATION CONTACT section of this notice no later than one week prior to the meeting.

The FAA is not accepting oral presentations at the meeting due to time constraints. Members of the public may present written statements to ARAC by providing a copy to the Designated Federal Officer via the email listed in the FOR FURTHER INFORMATION CONTACT section of this notice no later than one week before the meeting. Advance submissions that become part of the committee deliberations will become part of the official record of the meeting.

Issued in Washington, DC, on December 16, 2024.
Brandon Roberts,
Executive Director, Office of Rulemaking.

[FR Doc. 2024-30249 Filed 12-18-24; 8:45 am]

BILLING CODE 4910-13-P